DEPARTMENT OF JUSTICE

Drug Enforcement Administration

Manufacturer of Controlled Substances; Notice of Application

Pursuant to § 1301.33(a) of Title 21 of the Code of Federal Regulations (CFR), this is notice that on May 31, 2007, Innovacon, Inc., 4106 Sorrento Valley Boulevard, San Diego, California 92121, made application to the Drug Enforcement Administration (DEA) to be registered as a bulk manufacturer of the basic classes of controlled substances listed in schedule I and II:

Drug | Schedule
Tetrahydrocannabinols (7370) | I
3,4-Methylenedioxymethamphetamine (MDMA) (7405) | I
Heroin (9200) | I
Cocaine (9041) | II
Hydromorphone (9150) | II
Hydrocodone (9193) | II
Levorphanol (9220) | II
Methadone (9250) | II
Morphine (9300) | II
Thebaine (9333) | II

The company plans to utilize small quantities of controlled substances to produce drugs of abuse tests.

Any other such applicant and any person who is presently registered with DEA to manufacture such substances may file comments or objections to the issuance of the proposed registration pursuant to 21 CFR 1301.33(a).

Any such written comments or objections being sent via regular mail should be addressed, in quintuplicate, to the Drug Enforcement Administration, Office of Diversion Control, Federal Register Representative (ODL), Washington, DC 20537, or any being sent via express mail should be sent to Drug Enforcement Administration, Office of Diversion Control, Federal Register Representative (ODL), 8701 Morrissette Drive, Springfield, Virginia 22152; and must be filed no later than February 25, 2008.

Dated: December 17, 2007.
Joseph T. Rannazzisi,
Deputy Assistant Administrator, Office of Diversion Control, Drug Enforcement Administration.

[FR Doc. E7-25053 Filed 12-26-07; 8:45 am]

BILLING CODE 4410-09-P